DEPARTMENT OF HEALTH AND HUMAN SERVICES

Administration for Children and Families

Submission for OMB Review; Comment Request

Title: Computerized Support Enforcement Systems—NPRM.

OMB No.: 0980-0271.

Description: The information being collected is mandated by Section 454(16) of the Social Security Act (the Act), which provides for the establishment and operation by State agencies, in accordance with an initial and annually updated Advance Planning Document (APD) approved under section 452(d) of the Act, of a statewide system meeting the requirements of section 454A of the Act. In addition, section 454A(e)(1) of the Act requires that States create a State Case Registry (SCR) within their statewide automated child support systems to include information on IV-D cases and non-IV-D orders established or modified in the State on or after October 1, 1998. Section 454A(e)(5) of the Act requires States to regularly update their cases in the SCR.

This notice reflects the new transaction set for SCR to Federal Case Registry (FCR) transactions where States are encouraged, but not required, to submit child data from their SCR to the FCR.

The data being collected for the APD are a combination of narratives, budgets and schedules, which are used to provide funding approvals on an annual basis and to monitor and oversee systems development. Child support has separate regulations under 45 CFR 307.15 related to submittal of APDs because the program had supplemental authority for enhanced funding for systems development, a requirement for Independent Validation and Verification (IV&V) reviews for high risk projects, waiver authority, and has substantial penalties for non-compliance with the statutory deadline of October 1, 2000. This information collection reflects the fact that 52 States and Territories are now certified as meeting the automation requirements of the Family Support Act of 1988 (FSA) and the Personal Responsibility and Work Opportunity Reconciliation Act of 1996 (PRWORA), leaving only two States that are not yet PRWORA systems certified and only one State that has not submitted an Implementation APD for compliance with PRWORA automation. The two States not yet certified have a requirement for ongoing IV&V, i.e., that up to five States will require semiannual IV&V services related to their plans to develop entirely new CSE systems to replace their legacy systems and that one State is operating under a waiver for an Alternative Systems Configuration which requires additional information to be provided on an annual basis. States and Territories that opted to keep their APD for child support systems are covered under a separate Information Collection, OMB No. 0992-0005, for 45 CFR Part 95 Subpart F.

The data being collected for the SCR is used to transmit mandatory data elements to the FCR where it is used for matching against other databases for the purposes of location of individuals, assets, employment and other child support related activities.

Respondents: State and Territorial Child Support Agencies.

Annual Burden Estimates
Instrument | Number of respondents | Number of responses per respondent | Average burden hours per response | Total burden hours
307.15(b)(1)(IV&V), Ongoing | 2 | 12 | 16 | 384
307.15(b)(1) (IV&V), Semiannual | 5 | 2 | 16 | 160
307.5(b), Waiver Option | 1 | 1 | 80 | 80
307.5(a) System, Certification | 2 | 1 | 240 | 480
307.11(e)(1)(ii), Collection of Non-IV-D Data for SCR—States | 54 | 25,200 | .046 | 62,597
Collection of Child Data for IV-D Cases for SCR—States | 54 | 12,000 | .083 | 53,784
307.11(e)(1)(ii), Collection of Non-IV-D Data for SCR—Courts | 3,045 | 447 | .029 | 39,472
307.11(e)(3)(v), Collection of Child Data for IV-D cases for SCR—Courts | 3,045 | 213 | .083 | 53,833
307.11(f)(1), Case Data Transmitted from SCR to FCR—New cases and case updates | 54 | 52 | 2.82 | 7,919

Estimated Total Annual Burden Hours: 218,709.

Additional Information: Copies of the proposed collection may be obtained by writing to the Administration for Children and Families; Office of Administration, Office of Information Services, 370 L'Enfant Promenade, SW., Washington DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

November 7, 2007.
Robert Sargis,
Reports Clearance Officer.

[FR Doc. 07-5652 Filed 11-15-07; 8:45 am]

BILLING CODE 4184-01-M